DEPARTMENT OF ENERGY

Environmental Management Site-Specific Advisory Board, Northern New Mexico

AGENCY: Department of Energy.

ACTION: Notice of open meeting.

SUMMARY: This notice announces a meeting of the Environmental Management Site-Specific Advisory Board (EM SSAB), Northern New Mexico. The Federal Advisory Committee Act (Pub. L. No. 92-463, 86 Stat. 770) requires that public notice of this meeting be announced in the Federal Register.

DATES: Wednesday, January 30, 2008, 2 p.m.-8 p.m.

ADDRESSES: Jemez Complex, Santa Fe Community College, 6401 Richards Avenue, Santa Fe, New Mexico.

FOR FURTHER INFORMATION CONTACT: Menice Santistevan, Northern New Mexico Citizens' Advisory Board (NNMCAB), 1660 Old Pecos Trail, Suite B, Santa Fe, NM 87505. Phone (505) 995-0393; fax (505) 989-1752 or e-mail: msantistevan@doeal.gov.

SUPPLEMENTARY INFORMATION: Purpose of the Board: The purpose of the Board is to make recommendations to DOE in the areas of environmental restoration, waste management, and related activities.

Tentative Agenda

2 p.m. Call to Order by Deputy Designated Federal Officer, Christina Houston.

Establishment of a Quorum.

Welcome, Ed Moreno.

Approval of Agenda, J.D. Campbell.

Approval of Minutes of November 28, 2007, Board Meeting, J.D. Campbell.

2:05 p.m. Old Business, Ed Moreno

A. Consideration and Action—Proposed amendment to NNMCAB Bylaws.

B. Consideration and Action—Recommendation 2007-5 (Tabled on November 28, 2007).

New Business

2:14 p.m. Committee Business/Reports.

A. Environmental Monitoring, Surveillance and Remediation Committee, Pam Henline.

• Introduction of Draft Recommendation(s).

• Update on Los Alamos National Laboratory (LANL) Quarterly Groundwater Workshop.

B. Waste Management Committee, Ralph Phelps.

• Report on Spring NNMCAB Sponsored Forum.

3:30 p.m. Consideration and Action on Draft Recommendations to DOE, Ed Moreno.

4 p.m. Break.

4:15 p.m. Reports from Liaison Members:

U.S. Environmental Protection Agency, Rich Mayer.

DOE, George Rael.

Los Alamos National Security, LLC, Sue Stiger.

New Mexico Environment Department, James Bearzi.

5:15 p.m. Public Comment.

5:30 p.m. Dinner Break.

6:30 p.m. Presentation—Fundamentals of Well Drilling, TBA.

7:15 p.m. Questions/Answers on Presentation.

7:45 p.m. Recap of Meeting: Issuance of Press Releases, Editorials, etc., Ed Moreno.

8 p.m. Adjourn, Christina Houston.

This agenda is subject to change at least one day in advance of the meeting.

Public Participation: The meeting is open to the public. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Menice Santistevan at the address or phone number listed above. Minutes and other Board documents are on the Internet at: http://www.nnmcab.org.

Issued at Washington, DC on December 19, 2007.
Rachel Samuel,
Deputy Committee Management Officer.

[FR Doc. E7-25029 Filed 12-26-07; 8:45 am]

BILLING CODE 6405-01-P